DEPARTMENT OF HOMELAND SECURITY

Coast Guard

[Docket No. USCG-2017-0723]

Public Workshop on Marine Technology and Standards

AGENCY: Coast Guard, DHS.

ACTION: Notice; correction.

SUMMARY: The Coast Guard is correcting a notice that appeared in the Federal Register of August 8, 2017. The document announced an upcoming Public Workshop on Marine Technology and Standards to be held on October 16 and 17, 2017 in Washington, DC. The document had an incorrect amount for the registration fee.

FOR FURTHER INFORMATION CONTACT: If you have questions about this notice, contact Wayne Lundy, Office of Design and Engineering Standards, USCG, by telephone at (202) 372-1379 or email: Wayne.M.Lundy@uscg.mil.

SUPPLEMENTARY INFORMATION: In the Federal Register of August 8, 2017 (82 FR 37104), the Coast Guard published a notice announcing a Public Workshop on Marine Technology and Standards.

Correction

In FR Notice Doc. No. 2017-16694, published August 8, 2017, at 82 FR 37104, make the following corrections:

1. On page 37105 in the second column under “Registration”, correct the phrase “$325 USD if submitted on or before October 2, 2017 and $375 USD if submitted after October 2, 2017” to read “$490 USD if submitted on or before October 15, 2017 and $540 USD if registering on-site.”

2. Following the words “if registering on-site”, from the correction in paragraph 1 above, add the following sentence:

“In addition, registered attendees may receive a certificate from ASME following the workshop that awards Professional Development Hours for attendance at all sessions over the 2-day period.”

Dated: August 18, 2017.
J.G. Lantz,
Director of Commercial Regulations and Standards, U.S. Coast Guard.

[FR Doc. 2017-17889 Filed 8-23-17; 8:45 am]

BILLING CODE 9110-04-P